DEPARTMENT OF COMMERCE

National Oceanic and Atmospheric Administration

[I.D. 072503B]

Vessel Monitoring Systems (VMS); Pilot Program for Testing of VMS Unit for Certification in Northeast Fisheries

AGENCY: National Marine Fisheries Service (NMFS), National Oceanic and Atmospheric Administration (NOAA), Commerce.

ACTION: Request for participants in a pilot program.

SUMMARY: NMFS' Northeast Office for Law Enforcement (OLE) is seeking potential participants for a voluntary, limited-duration pilot program to field test the Thrane & Thrane TT-3026M VMS unit currently being considered for certification for use in Northeast fisheries that require the use of VMS units for reporting and monitoring of fishing activity.

DATES: Individuals interested in participating in this pilot program should apply by August 29, 2003.

ADDRESSES: Application information may be obtained from and applications should be submitted to: Northeast Office for Law Enforcement, National Marine Fisheries Service, 1 Blackburn Drive, Gloucester, MA 01930. Mark the outside of the envelope “VMS Pilot Program.” Or, you may fax an application to: 978-281-9317.

FOR FURTHER INFORMATION CONTACT: Northeast Office for Law Enforcement, VMS Program, at 978-281-9213.

SUPPLEMENTARY INFORMATION: Regulations at 50 CFR 648.9 set forth VMS requirements for fisheries in the northeastern United States that require the use of VMS for fishery monitoring and/or reporting. Specifically, § 648.9(b) lists minimum VMS performance criteria that a VMS unit must meet in order to be certified for use. If and when a new or modified unit becomes available, the Administrator, Northeast Region, NMFS (Regional Administrator) may, under the provisions of § 648.9(a), certify that unit for use, if it meets the minimum performance criteria.

The Thrane & Thrane TT-3026M VMS unit is being evaluated for certification in Northeast fisheries that require the use of VMS. In order to provide field-testing information to the Regional Administrator, OLE has designed a voluntary pilot program. Specific focus of the pilot program will be the at-sea testing on the setting of the Days-at-Sea (DAS) activity codes using the freeform e-mail capability of the TT-3026M unit.

The pilot program duration will be from 30 to 60 days, and will utilize six vessels of various sizes and configurations in the Northeast multispecies (groundfish) and Atlantic sea scallop fisheries. One unit has already been installed and activated on a local groundfish vessel that will be included in the pilot program. Therefore, five additional vessels are being sought to participate in the pilot program. Participant selection will be based upon vessel length, mast configuration, available power sources, principal port, permit type, personal computer (PC) knowledge level of the operator, and the anticipated fishing activity during the pilot program period. Applicants for the pilot program may provide this information to OLE by requesting, completing and returning a single-page application (see ADDRESSES). All expenses related to the installation and operation of the unit, within the scope of the pilot program, will be paid by OLE.

Once participant selection is finalized, the VMS units will be installed on selected vessels in accordance with the manufacturer's guidelines; using local marine electronic vendors. The installer will be required to make the appropriate connections to the PC onboard the vessel and to load the easyMail software, which comes with the TT-3026M. OLE will provide laptop PCs for those vessels that do not already have PCs on board. Once the VMS unit is installed and powered up, the installer will send a test message to OLE and then contact the OLE VMS staff to verify that the message was received and that the VMS unit is operating normally.

The vessel operator will be provided an information packet from OLE that contains instructions for communications with OLE via the VMS unit and step-by-step instructions for sending and receiving activity code changes via the easyMail program. OLE will also provide contact information, so that unforeseen difficulties with the VMS unit or software can be resolved in a timely manner. A test script will be provided to the pilot program vessels to test specific functionality of the system used by OLE to process DAS Activity Code changes. OLE will review the test results and perform any necessary system adjustments.

At the conclusion of the pilot program, interviews with the vessel operators will be conducted to solicit feedback and to obtain suggestions for system changes or enhancements. The VMS unit, along with any ancillary equipment, will be removed from the vessel. The vessel owner will have the option of retaining the control cable, if so desired; otherwise, it will be removed.

Dated: July 28, 2003.
Bruce C. Morehead,
Acting Director, Office of Sustainable Fisheries, National Marine Fisheries Service.

[FR Doc. 03-19636 Filed 7-31-03; 8:45 am]

BILLING CODE 3510-22-S